ENVIRONMENTAL PROTECTION AGENCY

[FRL-8160-7]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at http://www.epa.gov/compliance/monitoring/programs/caa/adi.html. The document may be located by date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although part 63 NESHAP and section 111(d) of the Clean Air Act regulations contain no specific regulatory provision that sources may request applicability determinations, EPA does respond to written inquiries regarding applicability for the part 63 and section 111(d) programs. The NSPS and NESHAP also allow sources to seek permission to use monitoring or recordkeeping which are different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with more than one thousand EPA letters and memoranda pertaining to the applicability, monitoring, recordkeeping, and reporting requirements of the NSPS and NESHAP. The letters and memoranda may be searched by date, office of issuance, subpart, citation, and control number or by string word searches.

Today's notice comprises a summary of 95 such documents added to the ADI on February 28, 2006. The subject, author, recipient, date and header of each letter and memorandum are listed in this notice, as well as a brief abstract of the letter or memorandum. Complete copies of these documents may be obtained from the ADI through the OECA Web site at: http://www.epa.gov/compliance/monitoring/programs/caa/adi.html.

Summary of Headers and Abstracts

The following table identifies the database control number for each document posted on the ADI database system on February 28, 2006; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents.

ADI Determinations Uploaded on February 24, 2006
Control | Category | Subpart | Title
A050001 | Asbestos | M | Demolition of Residential Trailer Homes.
M050030 | MACT | A, EEE | Stack Test Waiver for a Portland Cement Plant Kiln.
M050036 | MACT | G | Alternative Monitoring of Orthoxylene Unit.
M050037 | MACT | G | Waiver of Additional Performance Testing.
M050038 | MACT | U | Alternative Reporting Period.
M050039 | MACT | A | Waiver of Flare Performance Testing.
M050040 | MACT | CC, G | Alternative Reporting Period.
M050041 | MACT | CC | Alternative Reporting Period.
M050042 | MACT | S | Alternative Test Method for Pulp and Paper Mill.
M050043 | MACT | S, VVV | Cluster Rule Compliance Plan.
M050044 | MACT | PPP, FFFF | Primary Product Determination for Production Vessels.
M050045 | MACT | S | Cluster Rule Compliance Plan.
M050046 | MACT | KK, QQQQ | Finishing of Architectural Elements.
M050047 | MACT | Hon R | C-12 Chemical Manufacturing Process Units.
Z050007 | NESHAP | FF, V | Alternative Monitoring of Pressure/Vacuum Relief Valves.
0500048 | NSPS | D | Alternative Opacity Monitoring.
0500060 | NSPS | Db | Alternative Monitoring of Fluidized Catalytic Cracking Unit.
0500061 | NSPS | GG | Alternative Monitoring of Gas Turbines.
0500062 | NSPS | Db | Compliance Monitoring Plan for Gas-Fired Boiler.
0500063 | NSPS | J, Dc | Alternative Monitoring of Gasoline Loading Rack.
0500064 | NSPS | Dc | Alternative Recordkeeping of Fuel Usage.
0500065 | NSPS | Da | Alternative Monitoring of Duct Burners.
0500066 | NSPS | NNN | Alternative Monitoring of Catalytic Incinerators.
0500067 | NSPS | J | Alternative Monitoring of Gasoline Loading Rack.
0500068 | NSPS | J | Alternative Monitoring of Platformer Lock Hopper.
0500069 | NSPS | J | Alternative Monitoring of Vacuum Charge Heater.
0500070 | NSPS | J | Alternative Monitoring of Marine Dock Thermal Oxidizer.
0500071 | NSPS | Dc | Alternative Recordkeeping of Fuel Usage.
0500072 | NSPS | NNN | Alternative Monitoring of Distillation Units.
0500073 | NSPS | J | Alternative Monitoring of Fluidized Catalytic Cracking Unit.
0500074 | NSPS | J | Alternative Monitoring of Refinery Unit.
0500075 | NSPS | GG | Alternative Monitoring of New Replacement Turbine.
0500076 | NSPS | Db, GG, Dc | Custom Fuel Monitoring Schedule.
0500077 | NSPS | UUU | Kyanite Processing.
0500078 | NSPS | Db, GG | Alternative Monitoring of Gas Turbines.
0500079 | NSPS | GG, Db | Custom Fuel Monitoring Schedule.
0500080 | NSPS | GG, Db | Alternative Monitoring of Gas Turbines.
0500081 | NSPS | Da, GG | Alternative Monitoring of Gas Turbines.
0500082 | NSPS | Dc, GG | Alternative Monitoring of Gas Turbines.
0500083 | NSPS | Db | Alternative Opacity Monitoring.
0500084 | NSPS | UUU, WWW | Alternative Opacity Monitoring.
0500085 | NSPS | Da | Stack Testing Waiver.
0500086 | NSPS | WWW | Tier 2 Sampling.
0500087 | NSPS | WWW | Alternative Monitoring Proposals for Landfill.
0500088 | NSPS | CC | Alternative Opacity Monitoring.
0500089 | NSPS | RRR, NNN | Alternative Monitoring of Distillation Operations.
0500090 | NSPS | GG | Alternative Monitoring of Combustion Turbines.
0500091 | NSPS | Dc | Alternative Recordkeeping of Fuel Usage.
0500092 | NSPS | LL | Waiver of Visible Emission Test Requirements.
0500093 | NSPS | D | Alternative Opacity, SO2 , and NOX Monitoring.
0500094 | NSPS | Db | Alternative Monitoring Plan Modification Request.
0500095 | NSPS | WWW | Passive Flares and Waiver of Testing Requirements.
0500096 | NSPS | GG | Alternative Monitoring Plan for Gas Turbines.
0500097 | NSPS | WWW | Temporary Disconnection of Gas Collection Wells.
0500098 | NSPS | Cc | Tier 2 Testing Deadline.
0500099 | NSPS | Y, OOO | Initial Opacity Performance Testing.
0500100 | NSPS | Dc | Opacity Monitor Certification.
0500101 | NSPS | III, NNN | Waiver of Performance Test of Flare.
0500102 | NSPS | WWW | Waiver of Installation of Gas Collection Wells.
0500103 | NSPS | Db | Initial Performance Test Waiver and Recordkeeping Waiver.
0500104 | NSPS | Dc | Initial Opacity Performance Testing.
0500105 | NSPS | J | Alternative Monitoring of Refinery Fuel Gas Streams.
0500106 | NSPS | D | Alternative Span Value.
0500107 | NSPS | OOO | Waiver of Initial Performance Test for Baghouses.
0500108 | NSPS | Db | Alternative Opacity Monitoring.
0500109 | NSPS | H, T, U, V | Use of English Units for Monitoring and Recordkeeping.
0500110 | NSPS | XX | VRU Bypass During Diesel Loading.
0500111 | NSPS | UU | Alternative Opacity Monitoring and Performance Testing.
0500112 | NSPS | A, D, Db, Dc, Kb, DDD, III, NNN, RRR | Alternative Monitoring of Startups, Shutdowns, Malfunctions.
0500113 | NSPS | VV, Y, OOO | Alternative Monitoring for Leak Detection.
0500114 | NSPS | OOO, Y, Dc | Alternative Monitoring for Visible Emissions.
0500115 | NSPS | WWW, III, NNN | Alternative Monitoring of Surface Methane.
0500116 | NSPS | WWW | Landfill Testing and Emission Rate Calculation Issues.
0500117 | NSPS | WWW | Alternative Monitoring Plan for Landfill Gas.
0500118 | NSPS | CC | Alternative Opacity Monitoring.
0500119 | NSPS | XX, J | Re-Test Requirements After Adding Equipment.
0500120 | NSPS | TT | Alternative Test Method.
0500121 | NSPS | VV | Alternative Monitoring Plan for Leak Detection.
0500122 | NSPS | Db, Dc | Boiler Derate Proposal.
0500123 | NSPS | UUU | Alternative Monitoring Plan for Fluidized Bed Dryer.
0500124 | NSPS | GG | Modification of Initial Performance Testing.
0500125 | NSPS | J, A, I | Performance Test Extension Request.
0500126 | NSPS | J | Alternative Monitoring Plan for CEM Span Setting.
0500127 | NSPS | J | Alternative Monitoring Plan for Refinery Unit.
0500128 | NSPS | J | Alternative Monitoring Plan for Refinery Unit.
0500129 | NSPS | J | Alternative Monitoring Plan for Refinery Combustion Unit.
0500130 | NSPS | J | Alternative Monitoring Plan for Refinery Unit.
0500131 | NSPS | J | Alternative Monitoring Plan for Vent Gas Stream.
0500132 | NSPS | NNN, RRR | Alternative Opacity Monitoring.
0500133 | NSPS | NNN, RRR | Alternative Monitoring Plan for Distillation Units.
0500134 | NSPS | B | Alternative Performance Specification Procedure.
0500135 | NSPS | Db | Alternative Monitoring Plan for Cogeneration Unit.
0500136 | NSPS | NNN | SOCMI Distillation Operations.
0500137 | NSPS | J | Fuel Gas Combustion Devices and Process Gas Exemption.
0500138 | NSPS | J | Fuel Gases and Fuel Gas Combustion Devices.

Abstracts

Abstract for [A050001]

Q1: Are trailer homes with different owners located in the state of Delaware that are recycled using two different processes through the Delaware Solid Waste Authority subject to 40 CFR part 61, subpart M?

A1: No. 40 CFR part 61, subpart M, the asbestos NESHAP regulation, does not apply to demolition of single residential trailer homes because they are classified as single dwelling units and ownership remains with the trailer owner, not the state. A single dwelling unit that is being demolished is exempt from the NESHAP regulation throughout the entire recycling process. However, when two or more residential homes are located at the same demolition site and are under control of the same owner or operator, then the trailer homes become a residential installation subject to the NESHAP regulation.

Q2: Would 40 CFR part 61, subpart M, apply if the residential trailer home were purchased by a commercial entity rather than being sent to the Delaware Solid Waste Authority?

A2: No. A residential trailer home and its recycling process are exempt from the asbestos NESHAP regulation if at the time of demolition, it can be classified as single dwelling unit and does not meet the definition of a residential installation in 40 CFR 61.141.

Q3: Given the inapplicability of 40 CFR part 61, subpart M, what might the State of Delaware do to minimize public exposure to asbestos from the demolition of residential trailer homes?

A3: EPA suggests that the State of Delaware encourage inspection and removal of asbestos-containing material at the Delaware Solid Waste Authority compaction site. The state might also consider the addition of a permit condition in the Delaware landfills operating permits that would prohibit landfills from accepting asbestos-containing material as landfill cover.

Abstract for [0500060]

Q: Does EPA approve a request to discontinue calibrating a carbon monoxide continuous emission monitor (CEM) with a 1,000-ppmv span gas for a fluid catalytic cracking unit, under 40 CFR part 60, subpart Db, at Flint Hill Resources Pine Bend petroleum refinery in Rosemount, Minnesota?

A: Yes. EPA approves this request because, based on information submitted to EPA, Flint Hills Resources meets the criteria for the exemption set forth at 40 CFR 60.105(a)(2)(ii). However, a State permit requires the facility to calibrate its carbon monoxide continuous emission monitor with a 100 ppmv span gas.

Abstract for [0500061]

Q1: Does EPA waive the multi-load testing requirement, under 40 CFR part 60, subpart GG, for Tristate's Pyramid Generating Station near Lordsburg, New Mexico?

A1: Yes. EPA waives the multi-load testing requirement under NSPS subpart GG because the facility has a nitrogen oxides continuous emissions monitor (NOX CEM).

Q2: Does EPA approve the use of monitoring conducted in accordance with Part 75 in lieu of certain monitoring requirements in 40 CFR part 60, subpart GG, at Tristate's Pyramid Generating Station near Lordsburg, New Mexico?

A2: Yes. EPA approves the use of certain monitoring of part 75 in lieu of certain monitoring requirements of NSPS subpart GG.

Abstract for [0500062]

Q: Does EPA approve a compliance monitoring plan, under 40 CFR part 60, subpart Db, for a 185-mmBTU/hr natural gas-fired boiler at Flint Hills Resources (FHR) petroleum refinery in Rosemount, Minnesota?

A: Yes. On April 12, 2000, the company supplemented its request in accordance with EPA's initial response. The plan that Koch Fuels (FHR's former name) submitted included all of the information required by 40 CFR 60.49b(c)(1), (2) and (3). Based upon a review of the information that the company submitted, EPA approves the proposed compliance monitoring plan under NSPS subpart Db.

Abstract for [Z050007]

Q: Does EPA approve an alternative monitoring plan, under 40 CFR part 61, subparts V and FF, for pressure/vacuum relief valves in the wastewater treatment plant tanks and oil-water separator located at Flint Hills Resources (FHR) petroleum refinery in Rosemount, Minnesota?

A: Yes. EPA concludes that the pressure/vacuum relief valves function as both pressure relief devices and dilution air openings under NESHAP subparts V and FF. EPA did not promulgate a definition of “dilution air opening” in NESHAP subpart FF. NESHAP subpart V infers that a pressure relief device is designed to release pressure but is not designed to function as a dilution air opening. Since the pressure/vacuum relief valves relieve excess pressure in the closed vent system and allow dilution air to enter the closed vent system, the pressure/vacuum relief valves are both pressure relief devices and dilution air openings. EPA recognizes that the requirements of 40 CFR 61.343(a)(1)(i)(B) and (C) do not account for this dichotomy, and thus approves FHR's request for an alternative monitoring plan to resolve the ambiguity.

Abstract for [0500063]

Q: Does EPA approve an alternative monitoring plan, under 40 CFR part 60, subpart J, to address a new refinery fuel gas that Flint Hills Resources (FHR) loads at a gasoline loading rack at its Pine Bend Refinery in Rosemount, Minnesota?

A: Yes. EPA finds FHR has demonstrated that this refinery fuel gas meets the criteria in EPA's August 14, 1987 guidance for refinery fuel gas stream alternative monitoring plans, and thus it approves the alternative monitoring plan under NSPS subpart J.

Abstract for [0500064]

Q: Does EPA approve an alternative fuel usage recordkeeping method, under 40 CFR part 60, subpart Dc, for two heaters at Devon Energy's Bridgeport Gas Processing Plant near Bridgeport, Texas?

A: Yes. EPA approves the changes in the fuel usage recordkeeping frequency for NSPS subpart Dc boilers that are fired with only natural gas and/or low sulfur oil.

Abstract for [M050036]

Q: Does EPA approve an alternative control method, under 40 CFR part 63, subpart G, using dual carbon canisters to reduce HAP emissions at the Chalmette Refinery in Chalmette, Louisiana?

A: Yes. EPA approves the alternative method under MACT subpart G, conditioned on Chalmette's daily monitoring of the HAPs concentration after the primary canister until breakthrough has occurred three times.

Abstract for [0500065]

Q: Does EPA waive the monitoring requirement, under 40 CFR part 60, subpart Da, to use a sulfur dioxide continuous emission monitor (SO2 CEM) for duct burners located at Calpine's Channel Energy Center facility in Houston, Texas?

A: No. EPA does not waive the requirement under NSPS subpart Da. However, EPA will consider the approval of an alternative monitoring plan in lieu of an SO2 CEM.

Abstract for [0500066]

Q: Does EPA approve an alternative monitoring plan, under 40 CFR part 60, subpart NNN, for the catalytic incinerator at BASF's Freeport, Texas facility, which operates at varying flowrates and must add hydrocarbons to the stream to generate the required delta T established by the performance test?

A: Yes. EPA approves an alternative monitoring plan under NSPS subpart NNN for BASF's R-170 Catalytic Incinerator provided that: (1) The minimum outlet temperature will be 550 degrees C; (2) the minimum delta T across the bed will be 287 degrees C; (3) the minimum organic loading to the bed will be 89,380 lb/hr; and (4) the facility establishes alarms at a 15 degrees C differential to allow time for corrective action. In addition, BASF will keep records of organic flow rate to R-170 in lb/hr. Any hourly flow rates that are below the approved minimum will be considered a violation of NSPS subpart NNN and must be reported as excess emissions.

Abstract for [M050037]

Q: Will EPA waive, under 40 CFR part 63, subpart G, additional performance testing if the scrubber/absorption system organic absorption medium is changed from utility water to recycle process wastewater at a BP Chemicals Green Lake facility in Port Lavaca, Texas?

A: Yes. EPA will waive additional testing under MACT subpart G because the change in medium at the scrubber/absorption system would lead to only a slight increase in emissions and the total emissions remain below the permitted emissions limit of 0.37 lb/hr.

Abstract for [0500067]

Q: Does EPA approve an alternative monitoring plan (AMP), under 40 CFR part 60, subpart J, for a flare used by Flint Hills Resources (FHR) during periods of maintenance or malfunction of a vapor recovery unit at a gasoline loading rack at its Pine Bend Refinery in Rosemount, Minnesota?

A: Yes. EPA finds that FHR has demonstrated that this refinery fuel gas meets the criteria in EPA's guidance, “Alternative Monitoring Plan for NSPS Subpart J Refinery Fuel Gas” for refinery fuel gas stream alternative monitoring plans (see AMP attached to ADI Control Number 0500138) and thus it approves the alternative monitoring plan under NSPS subpart J.

Abstract for [0500068]

Q: Does EPA approve an alternative monitoring plan (AMP), under 40 CFR part 60, subpart J, for the platformer lock hopper and switch valve vent refinery fuel gas stream at Flint Hills Resources (FHR) petroleum refinery in Rosemount, Minnesota?

A: Yes. EPA finds that FHR has demonstrated that this refinery fuel gas meets the criteria in EPA's guidance, “Alternative Monitoring Plan for NSPS Subpart J Refinery Fuel Gas” for refinery fuel gas stream alternative monitoring plans (see AMP attached to ADI Control No. 0500138), and thus it approves the alternative monitoring plan under NSPS subpart J.

Abstract for [0500069]

Q: Does EPA approve an alternative monitoring plan, under 40 CFR part 60, subpart J, in lieu of a hydrogen disulfide continuous emission monitor (H2S CEM) for the disulfide separator off-gas in Atofina's facility in Port Arthur, Texas?

A: Yes. EPA approves the alternative monitoring plan under NSPS subpart J based upon the data submitted, and provided that the proposed alternative monitoring plan correctly applies the stipulated guidance in EPA's letters to Koch Fuels on December 2, 1999 and February 13, 2001 (see ADI Control Numbers 0500137 and 0100037).

Abstract for [0500070]

Q1: Does EPA approve an alternative monitoring plan, under 40 CFR part 60, subpart J, in lieu of a hydrogen disulfide continuous emission monitor (H2S CEM) for the dock thermal oxidizer vent gases in Atofina's facility in Port Arthur, Texas?

A1: Yes. EPA approves the alternative monitoring plan under NSPS subpart J based upon the data submitted, and provided that the proposed alternative monitoring plan correctly applies the stipulated guidance in EPA's letters to Koch Fuels on December 2, 1999 and February 13, 2001 (see ADI Control Numbers 0500137 and 0100037).

Q2: Does EPA approve alternative recordkeeping requirements for boilers, under 40 CFR part 60, subpart Dc, at the Frito-Lay facility in Mission, Texas?

A2: Yes. EPA approves the alternative recordkeeping requirements under subpart Dc based upon the information submitted by the facility.

Abstract for [M050038]

Q: Does EPA approve a request to align the periodic reporting requirements of non-leak detection and reduction (LDAR) and LDAR to a single semiannual report, under 40 CFR part 63, subpart U, for the hypalon elastomer unit at the DuPont Dow facility in Beaumont, Texas?

A: Yes. EPA approves the request to align the periodic reporting requirements of non-LDAR and LDAR to a single semiannual report under MACT subpart U as long as the reports are submitted in such a manner that there are no missing days of reporting.

Abstract for [M050039]

Q: Does EPA waive a performance test requirement for vent streams that contain hydrogen cyanide (HCN) and allow the use of an alternative method of demonstrating compliance, under 40 CFR part 63, subpart A, at DuPont Chemical Solutions Enterprise's facility in Beaumont, Texas?

A: Yes. EPA grants the waiver of performance testing under MACT subpart A for flow measurement and heat content because the facility has demonstrated compliance using alternate means.

Abstract for [0500071]

Q: Does EPA approve alternative recordkeeping requirements, under 40 CFR part 60, subpart Dc, for natural gas burning boilers at the Frito-Lay facility in Mission, Texas?

A: Yes. EPA approves the alternative recordkeeping requirements under subpart Dc based upon the condition that it is not necessary to keep daily fuel usage records for units fired only with natural gas since the emission standards in subpart Dc are not applicable to these units.

Abstract for [0500072]

Q: Will EPA approve, under 40 CFR part 60, subpart NNN, an alternative plan to monitor the total flow to the combustion device instead of monitoring the flow of each vent stream from several distillation units to the combustion device at ExxonMobil's Baytown Chemical Plant in Baytown, Texas?

A: Yes. EPA approves this alternative monitoring request under NSPS subpart NNN with additional conditions to ensure which combustion devices are associated with which vent gas streams.

Abstract for [0500073]

Q: Does EPA approve an alternative monitoring plan for a refinery generated fuel gas stream, under 40 CFR part 60, subpart J, at Motiva Enterprises' Convent Refinery in Convent, Louisiana?

A: Yes. EPA approves an alternative monitoring plan under NSPS subpart J, provided the facility follows the stipulated guidance in EPA's letters to Koch Fuels on December 2, 1999 and February 13, 2001 (see ADI Control Numbers 0500137 and 0100037).

Abstract for [M050040]

Q: Does EPA align the 40 CFR part 63, subparts G and CC reporting periods for Motiva Enterprises' facility in Norco, Louisiana?

A: Yes. EPA aligns the reporting periods under MACT subparts G and CC, provided that the facility submits a shortened report such that no days of recordkeeping and reporting are missed.

Abstract for [0500074]

Q: Does EPA approve an alternative monitoring plan for the regenerative catalytic cracking unit (RCCU), under 40 CFR part 60, subpart J, at Motiva Enterprises' facility in Norco, Louisiana?

A: Yes. EPA approves an alternative monitoring plan under NSPS subpart J, provided that the monitored parameters and ranges at the facility have supporting data.

Abstract for [M050041]

Q: Does EPA allow aligning the reporting period to a semi-annual calendar year, under 40 CFR part 63, subpart CC, for the Shell Norco Chemical Plant in Norco, Louisiana?

A: Yes. EPA allows the aligning of the reporting period under MACT subpart CC, provided that the facility submits a shortened report such that no days of recordkeeping and reporting are missed.

Abstract for [M050042]

Q: Does EPA approve the use of National Council for Air and Stream (NCASI) hazardous air pollutants (HAPS) Test Method 99.01, under 40 CFR part 63, subpart S, to analyze condensate samples collected at Appleton Papers' Spring Mill in Roaring Spring Borough, Pennsylvania?

A: Yes. EPA allows the alternative method under MACT subpart S, provided that the appropriate correction factors are used.

Abstract for [0500075]

Q1: Does EPA approve the continuation of the current custom fuel monitoring plan for the new replacement turbine, under 40 CFR part 60, subpart GG, at East Tennessee Natural Gas Company's Compressor Station 3313 in Rural Retreat, Virginia?

A1: Yes. EPA approves this request under NSPS subpart GG because it understands that there will be no change in fuel quality since there is no change in fuel source.

Q2: Does EPA approve a sampling location, under 40 CFR part 60, subpart GG, where the system's three major lines connect?

A2: Yes. Because the ownership of East Tennessee Natural Gas Company was transferred from El Paso Energy Corporation (EPE) to a subsidiary of Duke Energy Gas Transmission, EPA approves a new sampling location at Topside Junction Metering and Control Station in Knoxville County, where the system's three major lines connect.

Abstract for [M050043]

Q: Does EPA approve alternative monitoring parameters and parameter values for “closed” biological treatment systems, under 40 CFR part 63, subpart S, at the Smurfit (formerly Stone Container Corporation) pulp and paper mill in Hopewell, Virginia?

A: Yes. EPA approves the request because the facility has adequately demonstrated it meets the requirements of MACT subpart S through both continuous monitoring of the proposed four parameters and continuous monitoring to ensure that UNOX oxygen purity is maintained at 96 percent maximum.

Abstract for [M050044]

Q1: Does EPA approve the primary product determination for specific production vessels and precompliance report for pilot vessels, under 40 CFR part 63, subpart PPP, for the CRODA Manufacturing facility in Mill Hall, Pennsylvania?

A1: Yes. EPA approves the request under MACT subpart PPP because it accepts CRODA's conclusion that specific production vessels that do not manufacture a polyether polyol as the primary product are not polyether polyol manufacturing units.

Q2: Does EPA agree that products manufactured with epoxides do not meet the definition of a polyether polyol in 40 CFR part 63, subpart PPP?

A2: Yes. EPA agrees that products that do not meet the definition of polyether polyol in MACT subpart PPP are not subject to the requirements of that subpart.

Abstract for [M050045]

Q: Does EPA approve the use of alternative monitoring parameters and parameter values to demonstrate compliance with 40 CFR part 63, subpart S for “closed” biological treatment systems at the St. Laurent Paperboard facility in West Point, Virginia?

A: Yes. EPA approves the request because the facility has adequately demonstrated that the alternative monitoring parameters meet the requirements of MACT subpart S.

Abstract for [0500076]

Q: Does EPA approve a custom fuel monitoring schedule, under 40 CFR part 60, subpart GG, for Millennium Inorganic Chemicals' Hawkins Point plant in Baltimore, Maryland?

A: Yes. EPA approves this request in accordance with its August 14, 1987 custom fuel monitoring schedule memorandum, and provided that pipeline quality natural gas is the only fuel being burned.

Abstract for [0500077]

Q: Does 40 CFR part 60, subpart UUU, apply to rotary calciners that are used in the production of mullite with kyanite as the raw material at Kyanite Mining Corporation (KMC) facilities?

A: No. NSPS subpart UUU applies to calciners and dryers at “mineral processing plants,” i.e., a facility that processes or produces one or more of the seventeen specifically named minerals listed in 40 CFR 60.731, their concentrates, or mixtures which contain greater than 50 percent of any of these listed minerals. EPA understands that silica is formed as a by-product during the kyanite calcining process at KMC in quantities that do not constitute the majority (greater than 50 percent) of any of the minerals processed or produced at KMC.

Abstract for [M050046]

Q: Is a facility which primarily applies finishing to architectural wood molding materials subject to the requirements of 40 CFR part 63, subpart KK?

A: No. While EPA believes that the definitions in 40 CFR 63.822 are intended to be broadly applied and inclusive, we have determined that rotogravure printing on wood molding was not intended to be regulated under this rule. The facility does not produce saleable paper products and does use a flexographic press in its finishing operations. It therefore does not qualify as “publication rotogravure printing” as that term is defined in 40 CFR 63.822. However, EPA has determined that the molding finishing operations at the facility would be regulated under 40 CFR 43 Subpart QQQQ, the Wood Building Products MACT, if the molding products “finished” at the facility are not included within the category of surface coating (or other operations specifically excluded under 40 CFR 63.4681(c)(1)-(5)) and are more than 50 percent by weight wood.

Abstract for [0500078]

Q: Does EPA approve an alternative monitoring plan, under 40 CFR part 60, subpart GG, for the Liberty Electric Power facility in Eddystone Borough, Pennsylvania?

A: Yes. EPA approves this alternative monitoring plan request under NSPS subpart GG, consistent with previous determinations that provide for the use of continuous emissions monitoring systems (CEMS) equipment to continuously monitor compliance with the standard for nitrogen oxides.

Abstract for [0500079]

Q: Does EPA approve a custom fuel monitoring schedule, under 40 CFR part 60, subpart GG, for the Liberty Electric Power facility in Eddystone Borough, Pennsylvania?

A: Yes. EPA approves this custom fuel monitoring schedule under NSPS subpart GG in accordance with its August 14, 1987 custom fuel monitoring schedule memorandum, and provided that natural gas is the only fuel fired in the gas turbine.

Abstract for [0500080]

Q: Does EPA approve an alternative test method request for performance testing of (nitrogen oxides) NOX emission limitations for two gas turbine/duct burner combined cycle units, under 40 CFR part 60, subpart GG, at the Liberty Electric Power facility in Eddystone Borough, Pennsylvania?

A: Yes. EPA approves this request under NSPS subpart GG based on a review by the Emission, Monitoring, and Analysis Division (EMAD) of the Office on Air Quality, Planning and Standards, and subject to the conditions specified in the EMAD memorandum (C304-02) dated April 5, 2002.

Abstract for [0500081]

Q1: Does EPA approve a custom fuel monitoring schedule, under 40 CFR part 60, subpart GG, for the Tenaska Virginia Generating Station in Fluvanna County, Virginia?

A1: Yes. EPA approves this custom fuel monitoring schedule under NSPS subpart GG in accordance with its August 14, 1987 custom fuel monitoring schedule memorandum, and provided that pipeline quality natural gas is the only fuel being burned (see ADI Control Number NS33).

Q2: Does EPA approve an alternative monitoring plan, under 40 CFR part 60, subpart GG, that provides for the use of CEMS equipment to continuously monitor compliance with the standards for nitrogen oxides for the Tenaska Virginia Generating Station in Fluvanna County, Virginia?

A2: Yes. EPA approves the alternative monitoring plan request under NSPS subpart GG, based upon its consistency with previous determinations made by the Agency and conditions necessitating specific additional requirements for recordkeeping and monitoring.

Abstract for [0500082]

Q: Does EPA approve a custom fuel monitoring schedule, under 40 CFR part 60 subpart GG, for Energy System North East's Cogeneration Plant in North East, Pennsylvania?

A: Yes. EPA approves this custom fuel monitoring schedule under NSPS subpart GG in accordance with its August 14, 1987 custom fuel monitoring schedule memorandum, and provided that pipeline quality natural gas is the only fuel being burned.

Abstract for [0500083]

Q: Does EPA waive the opacity monitoring requirement in 40 CFR part 60, subpart Db for a wood-fired boiler at the Homanit USA plant in Montgomery County, North Carolina?

A: No. EPA finds that neither NSPS subpart Db nor the NSPS general provisions in subpart A provide the authority to completely waive the applicable opacity monitoring requirement of NSPS subpart Db. However, based upon the low probability that there will be any opacity in the regenerative thermal oxidizer stack downstream of the boiler, EPA would be willing to consider an opacity monitoring alternative.

Abstract for [0500084]

Q: Does EPA approve use of an alternative path length correction factor, under 40 CFR part 60, subpart UUU, based on width rather than equivalent diameter for the continuous opacity monitoring system on three rectangular exhaust stacks at the 3M facility in Moncure, North Carolina?

A: Yes. EPA approves this request. EPA finds the alternative path length correction factor is acceptable under NSPS subpart UUU because of the high bias in the opacity data created by using equivalent diameter.

Abstract for [0500085]

Q: Does EPA waive the 40 CFR part 60, subpart Da requirement to conduct a stack test in order to determine compliance with the applicable sulfur dioxide limit for a duct burner at Cogentrix Energy's Caledonia Power Station?

A: Yes. EPA waives the NSPS subpart Da requirement based upon the margin of compliance, provided that the unit is fired with only pipeline quality natural gas.

Abstract for [0500086]

Q: Does EPA allow collection of Tier 2 samples from the active gas collection systems, under 40 CFR part 60, subpart WWW, at the Prairie Bluff Landfill in Chickasaw County, Mississippi, and the Little Dixie Landfill in Madison County, Mississippi?

A: Yes. Based upon NSPS subpart WWW revisions promulgated on October 17, 2000, EPA finds the proposed Tier 2 sampling sites to be acceptable, provided that they are located prior to any gas moving or condensate removal equipment. In addition, at least three samples must be collected from the proposed sampling site at each of the landfills in question.

Abstract for [0500087]

Q1: Does EPA approve the proposed alternative oxygen concentration limit for 16 wells, under 40 CFR part 60, subpart WWW, at the Deans Bridge Road Landfill operated by the Augusta, Georgia Public Works and Engineering Department?

A1: Yes. EPA approves the proposed alternative concentration limit under NSPS subpart WWW because the temperature monitoring data for the wells in question indicate that oxygen levels greater than five percent have not poisoned methane producing bacteria.

Q2: Does EPA waive the requirement under 40 CFR part 60, subpart WWW to conduct methane surface concentration monitoring in a closed 52-acre section of the landfill?

A2: No. Because NSPS subpart WWW requires that methane surface concentration monitoring in closed areas be conducted at least annually, EPA concludes that the requirement to conduct this monitoring cannot be waived. However, the monitoring frequency can be reduced from a quarterly to an annual basis if none of the methane concentration readings in the closed section of the landfill were 500 parts per million or more during the June 2003 monitoring period.

Abstract for [0500088]

Q: Does EPA approve an opacity monitoring alternative for two glass melting furnaces, under 40 CFR part 60, subpart CC, at the Anchor Glass Company's Warner Robbins, Georgia plant?

A: No. EPA does not approve this request under NSPS subpart CC. Based upon the results of testing conducted on both furnaces, there does not appear to be a consistent relationship between particulate emission rates and the operating parameter (bridgewall temperature) that Anchor Glass proposed to monitor in lieu of installing, certifying, and operating a continuous emission monitoring system.

Abstract for [0500089]

Q: Does EPA find that the 40 CFR part 60, subpart RRR monitoring procedures are an acceptable alternative to the 40 CFR part 60, subpart NNN requirements for volatile organic compound (VOC) excess emission monitoring at the distillation operation in Celanese Acetate's plant in Rock Hill, South Carolina?

A: Yes. EPA finds that the NSPS subpart RRR monitoring procedures are an acceptable alternative to the monitoring procedures required under NSPS subpart NNN in this case. The NSPS subpart RRR requirement to monitor diversions from the control device accomplishes the same end as the NSPS subpart NNN requirement to monitor the flow to the control device. In addition, based upon information in the preamble to the final rule promulgating NSPS subpart RRR, monitoring the combustion temperature for boilers and process heaters, although required under NSPS subpart NNN, is not necessary when a VOC vent stream is introduced with the primary fuel for the boiler or heater.

Abstract for [0500090]

Q: Does EPA approve the use of Gas Producers Association (GPA) Method 2265, under 40 CFR part 60, subpart GG, to measure the sulfur content of natural gas burned in turbines at the Clarksdale Public Utilities Crossroads Power Plant?

A: Yes. EPA approves this request to use GPA Method 2265 for monitoring natural gas sulfur content under NSPS subpart GG because it is an acceptable alternative similar to American Society for Testing Materials (ASTM) methods for measuring sulfur content and consistent with several other past determinations.

Abstract for [0500091]

Q: Does EPA require requests for approval of an alternative fuel usage recordkeeping schedule to be submitted to EPA for review, under 40 CFR part 60, subpart Dc, especially routine requests for natural gas and distillate oil-fired boilers?

A: No. Requests of this type do not have to be submitted exclusively to EPA for review. Because of the routine nature of such requests, review on a case-by-case basis at the Regional level slows down the approval without providing any environmental benefit. The low fuel emissions from natural gas and distillate oil-fired boilers means that monthly fuel usage recordkeeping frequencies are typically appropriate to verify these sources' compliance. Additionally, proposals to apportion total fuel usage between multiple units with a common fuel flow meter do not have to be submitted to EPA for review if the apportionment approach is at least as accurate as one that EPA approved for several plants operated by Tyson Foods in Region 5 in a determination dated May 1, 2001 (ADI control number 010005), which was attached to EPA's response.

Abstract for [0500092]

Q: Does EPA waive the requirement, under 40 CFR part 60, subpart LL, to perform visible emissions tests on several affected facilities located inside a building at the Treibacher Schleifmittal grit plant in Andersonville, Georgia?

A: Yes. EPA waives the NSPS subpart LL requirement to conduct separate visible emission tests on each of the fugitive emission sources inside the facility because the results of EPA Method 22 observations conducted on the exterior of the building provide adequate assurance of compliance for the facilities located inside.

Abstract for [0500093]

Q: Does EPA approve the opacity, sulfur dioxide (SO2), and nitrogen oxides (NOX) alternative monitoring proposals, under 40 CFR part 60, subpart D, for the Number 2 Bark Boiler at Riverwood International's kraft pulp mill in Macon, Georgia?

A: Yes. EPA approves the alternative monitoring proposals concerning opacity, sulfur dioxide, and nitrogen oxides under NSPS subpart D. EPA finds monitoring of the scrubber liquor flow rate and scrubber pressure drop to be an acceptable alternative to using continuous opacity monitors (COMS). Additionally, monitoring the pH of the scrubber liquor when coal is fired is an acceptable alternative to an SO2 CEMS. Furthermore, performing annual boiler tune-ups and conducting annual NOX performance tests is reasonable assurance of compliance with the applicable NOX emission limits in subpart D in lieu of a NOX CEMS.

Abstract for [0500094]

Q: Does EPA approve a request to modify the current opacity monitoring alternative, under 40 CFR part 60, subpart Db, for a boiler at Georgia Pacific's plywood plant in Monticello, Georgia, by deleting one of the three parameters currently monitored as an indicator of scrubber performance?

A: Yes. EPA approves the request under NSPS subpart Db to drop the water supply pressure monitoring requirement. Based on facts submitted to EPA, monitoring both water flow rate and supply pressure at this plant is unnecessary. In addition, several other NSPS subparts, including OOO and UUU, require only pressure drop and water flow rate monitoring.

Abstract for [0500095]

Q1: Does EPA approve a proposal to use passive flares on a temporary basis (not to exceed 18 months), under 40 CFR part 60, subpart WWW, at Waste Management's Live Oak Landfill in DeKalb County, Georgia?

A1: Yes. EPA approves the proposed flares under NSPS subpart WWW, provided that they are used only in areas where liners have been installed on the sides and bottom of the landfill in accordance with 40 CFR 258.40. This determination is based upon the design of the proposed flares, each of which must include a pilot flame, thermocouple, a thermocouple to monitor the temperature at the flare tip, and a data logger to record the thermocouple data.

Q2: Does EPA waive the 40 CFR part 60, subpart WWW performance testing requirement for the passive flares at Waste Management's Live Oak Landfill in DeKalb County, Georgia?

A2: No. EPA does not waive the NSPS subpart WWW performance testing requirement for the passive flares because flare design flow rate data and information regarding typical landfill gas composition do not provide a sufficient basis for a waiver. To obtain such a waiver, the facility must test a portion of the flares that it installs and submit the results of the test to EPA for review.

Abstract for [0500096]

Q: Does EPA approve American Society for Testing Materials (ASTM) Method D 6667-01 as an alternative method, under 40 CFR part 60, subpart GG, for monitoring the sulfur content of natural gas burned in three gas turbines at the Williams Pipeline site in Coden, Alabama?

A: Yes. EPA has previously approved the proposed alternative method under NSPS subpart GG for measuring natural gas sulfur content at more than twenty separate turbine installations nationwide in lieu of the four ASTM methods for determining the sulfur content of gaseous fuels listed in 40 CFR 60.335(d).

Abstract for [0500097]

Q: Does EPA approve a proposal to temporarily abandon gas collection wells during vertical expansion in active areas that have held waste for five years or more, under 40 CFR part 60, subpart WWW, at Waste Management's Live Oak Landfill in DeKalb County, Georgia?

A: No. EPA does not approve under NSPS subpart WWW the proposal to disconnect the wells for a six to twelve month period while a vertical expansion is taking place because it would constitute a relaxation of the applicable emission standard.

Abstract for [0500098]

Q1: Does EPA allow Clayton County, Georgia, which missed the deadline for a Tier 2 retest at its SR3 Municipal Solid Waste Landfill, to have the option of conducting another Tier 2 test prior to the deadline for submittal of a gas collection and control (GCCS) system design plan under 40 CFR part 60, subpart Cc?

A1: Yes. EPA has determined that additional Tier 2 testing can be conducted any time prior to the deadline for installation of a GCCS (30 months after the landfill's nonmethane organic compound emission rate exceeds 50 megagrams per year), provided that a design plan is submitted by the applicable deadline (12 months after the landfill's nonmethane organic compound emission rate exceeds 50 megagrams per year).

Q2: Could EPA clarify whether the results of initial Tier 2 testing in 1998 or of a Tier 2 retest in 2003 should be used for calculating the 2003 nonmethane organic compound (NMOC) emission rate, under 40 CFR part 60, subpart Cc, at the Clayton County, Georgia, Municipal Solid Waste Landfill?

A2: Once the deadline for Tier 2 retesting has passed, NMOC emission rates under NSPS subpart WWW must be calculated using the 4000 part per million default value, unless additional Tier 2 testing is done. If additional testing is done, the NMOC concentration results from this retest, rather than the default value, would apply for calculating the NMOC emission rate for year 2003.

Abstract for [0500099]

Q: Does EPA approve a proposal for shortening the visible emission (VE) observation from three hours to one hour for conveyor drop points, under 40 CFR part 60, subpart Y, at DTE Energy Services' coal preparation plant in Belews Creek, North Carolina?

A: Yes. EPA approves the request to shorten the VE observation time to one hour when no individual opacity readings exceed 15 percent during the first hour of readings. Demonstrating that opacity levels do not exceed 15 percent of the applicable limit for an entire hour will provide adequate assurance of compliance with the opacity limit in NSPS subpart Y.

Abstract for [0500100]

Q: Could EPA verify whether a continuous opacity monitoring system (COMS) located on a replacement stack for a boiler at Trigen Biopower in Caldwell, North Carolina, should be subject, under 40 CFR part 60, subpart Dc, to certification requirements in the latest version of Performance Specification 1 (PS-1)?

A: Yes. EPA finds that under NSPS subpart Dc, the COMS is subject to the latest PS-1 certification requirements. Installing the monitor on the replacement stack constitutes relocation because a replacement stack is likely to differ in some respects from the original stack, and there is no way to be absolutely sure two stacks are completely identical. Relocating a COMS is one of the conditions requiring monitor certification in the August 10, 2000 version of PS-1.

Abstract for [0500101]

Q: Does EPA waive the requirement to conduct a performance test on a flare that controls volatile organic compound (VOC) emissions from air oxidation and distillation operations, under 40 CFR part, 60 subparts III and NNN, at Albemarle Corporation's chemical plant in Orangeburg, South Carolina?

A: Yes. EPA waives the performance requirement under NSPS subparts III and NNN. Information supplied by the company demonstrates that the flare tip velocity will be less than 50 percent of the applicable limit even if the total volume of reactants for the hydrogen cyanide production unit were vented through the control device. Hence, the velocity limit promulgated in 40 CFR 60.18(c)(3)(i)(A) will not be exceeded.

Abstract for [0500102]

Q: Does EPA waive the requirement to install gas collection wells in active landfill areas that have held waste for five years or more, under 40 CFR part 60, subpart WWW, at the Central Disposal Facility in Brevard County, Florida?

A: No. EPA does not waive this requirement. Such a waiver would constitute an unacceptable relaxation of the emission standards of NSPS subpart WWW because landfill gas that would be collected and routed to control equipment under the rule's provisions would instead be released to the atmosphere without controls.

Abstract for [0500103]

Q1: Does EPA waive the requirement to conduct an initial performance test, under 40 CFR part 60, subpart GG, on two of the three combustion turbines at Forsyth Energy Project's (FEP) plant in Forsyth County, North Carolina?

A1: Yes. EPA grants this waiver request. Under the conditions proposed by FEP, EPA finds the test results for one of the three identical turbines will provide adequate assurance that the other two units also comply with NSPS subpart GG. Additionally, the use of nitrogen oxides continuous emissions monitors (NOX CEMS) at FEP provides a further source of credible evidence regarding the compliance for all three turbines following the initial testing.

Q2: Does EPA waive the requirement to keep records of the annual capacity factor, under 40 CFR part 60, subpart Db, for FEP's auxiliary boiler?

A2: Yes. EPA waives this requirement. EPA finds that since the company is not seeking an exemption from the nitrogen oxides limit under NSPS subpart Db, there is no regulatory need for information regarding the auxiliary boiler's annual capacity factor.

Abstract for [0500104]

Q: Does EPA approve the shortening in duration of the initial opacity performance test, under 40 CFR part 60, subpart Dc, from three hours to one hour if there are no opacity readings greater than ten percent during the initial hour of observations on three oil-fired boilers at the RJ Reynolds plant in Tobaccoville, North Carolina?

A: Yes. EPA approves the request under NSPS subpart Dc based upon the expectation that there will be a low variability in opacity levels when oil is used to fire these boilers. The test duration can be shortened to one hour for any of the boilers that does not have individual opacity readings exceeding 10 percent for each of the 15-second visible emissions readings taken during the first hour of observations.

Abstract for [0500105]

Q: Does EPA approve an alternative hydrogen sulfide (H2S) monitoring proposal, under 40 CFR part 60, subpart J, submitted for refinery fuel gas burned in a reformer furnace at the Air Products and Chemicals Catlettsburg, Kentucky hydrogen plant?

A: Yes. EPA approves under NSPS subpart J the proposed H2S alternative monitoring plan. The hydrogen sulfide content of the reformer's fuel gas and fuel gas streams is inherently low, and Air Products has an economic incentive to keep these levels low in order to prevent poisoning the hydrogen reformer catalyst.

Abstract for [0500106]

Q: Does EPA approve an alternative span value of 70 percent, under 40 CFR part 60, subpart D, proposed for two hog fuel boilers at Weyerhaeuser's Kraft pulp mill in Plymouth, North Carolina?

A: Yes. EPA approves the proposed alternative span value under NSPS subpart J because it will not interfere with the facility's ability to identify and report emissions' exceedances for opacity as stated in 40 CFR 60.45(g)(1). In addition, the proposed alternative span value for the hog fuel boilers will improve the overall effectiveness of Weyerhaeuser's continuous opacity monitoring systems (COMS) quality assurance program by ensuring that all five units with COMS at the Plymouth mill have the same span value.

Abstract for [0500107]

Q: Does EPA waive the requirement to conduct an initial performance test on two existing baghouses used to control particulate emissions from materials handling equipment, under 40 CFR part 60, subpart OOO, at the Monarch Ceramic Tile plant in Florence, Alabama?

A: No. EPA does not approve this request under NSPS subpart OOO. Given the increase in particulate loading at the baghouse inlet and the amount of time elapsed since the last performance test, prior test results do not provide adequate assurance of compliance for new equipment being added to the plant.

Abstract for [0500108]

Q: Does EPA approve the alternative monitoring plan for opacity as proposed for a backup package boiler for additional steam generation, under 40 CFR part 60, subpart Db, at the Jefferson Smurfit linerboard mill in Fernadina Beach, Florida?

A: No. Although EPA has approved proposals for the monitoring of opacity using visible emissions data collection instead of using a continuous opacity monitoring system (COMS), the proposed alternative monitoring plan includes provisions which are not acceptable to ensure continuous compliance. The specific provisions that must be removed from this proposal before it can be approved by EPA include requests for making opacity readings only on days when the boiler operates for more than six hours, and those provisions that eliminate opacity readings on weekends and holidays. Also, if the company seeks an exemption from monitoring during periods when weather conditions make it impractical to collect opacity data, the proposal must be revised to identify the very specific conditions under which such an exemption could be justified.

Abstract for [0500109]

Q: Does EPA approve an alternative monitoring proposal, under 40 CFR part 60, subparts H, T, U and V, using English units of measure, rather than metric units of measure, for facilities at the U.S. Agri-Chemicals plant in Polk County, Florida?

A: Yes. With regard to NSPS subpart H; EPA approval for the use of English units is not required, as the applicable monitoring provisions in the rule do not specifically require the use of metric units. Although the monitoring provisions in NSPS subparts T, U, and V require that feed rate data be expressed in metric units (i.e., megagrams per hour), EPA approves using English units (tons per hour) to satisfy these requirements because the fluoride emission limits in these rules are expressed in both metric and English units, and this does not hinder a compliance determination.

Abstract for [0500110]

Q: Does EPA approve a proposal to use an automated system to distinguish between gasoline truck tanks and diesel truck tanks, under 40 CFR part 60, subpart XX, in order to bypass the vapor recovery unit (VRU) during diesel loading at the Marathon Ashland Petroleum (MAP) bulk gasoline terminal in Knoxville, Tennessee?

A: Based on the information submitted, EPA cannot approve the proposed alternative monitoring plan at this time. However, the concept behind the proposal has merits. For further consideration of the alternative monitoring plan, MAP must submit to EPA additional information including: A demonstration that volatile organic compound (VOC) concentrations differ enough between different loading scenarios for a continuous monitor to tell when diesel trucks are being loaded; data regarding VOC monitor response time; and details regarding the quality assurance/quality control procedures for the continuous monitor.

Abstract for [0500111]

Q1: Does EPA approve the use of EPA Method 22, under 40 CFR part 60, subpart UU, as an alternative to EPA Method 9 for determining compliance with the opacity standard for mineral handling and storage facilities at the TAMKO Roofing Products plant in Clay County, Florida?

A1: No. EPA Method 22 is not an acceptable alternative to EPA Method 9 because it determines the total duration of visible emissions during the test period but does not record opacity levels when visible emissions are present. Therefore, the use of EPA Method 22 makes it impossible to determine the magnitude of any violations under NSPS subpart UU.

Q2: Does EPA waive the requirement to conduct opacity performance testing, under 40 CFR part 60, subpart UU, on mineral surge tanks and limestone surge tanks located inside a building at the TAMKO Roofing Products plant in Clay County, Florida?

A2: No. EPA denies this waiver request. The applicable opacity standard in NSPS subpart UU applies to tanks located inside a building. EPA Method 9 can be performed inside buildings. Furthermore, in order to obtain approval for an opacity performance test waiver, the facility must supply information that could be used to demonstrate compliance through other means. No such information was provided in this request.

Abstract for [0500112]

Q: Does EPA approve an alternative monitoring proposal, under 40 CFR part 60, subpart A, for maintaining records of startups, shutdowns, and malfunctions periods only when there are occurrences of excess emissions at the Eastman Chemical plant in Kingsport, Tennessee?

A: Yes. EPA approves this alternative recordkeeping proposal under NSPS general provisions, subpart A, because the primary use for these records is to determine the applicability of the provisions in 40 CFR 60.8(c). Thus, limiting recording of emissions data at this type of facility during periods of startup, shutdown, and malfunction only when there are occurrences of excess emissions is acceptable and should not affect identifying compliance violations.

Abstract for [0500113]

Q: Does EPA approve the use of sensory means (i.e., sight, sound, and smell) as an acceptable alternative, under 40 CFR part 60, subpart VV, to using EPA Method 21 for detecting leaks from equipment in acetic acid service at the Eastman Chemical plant in Kingsport, Tennessee?

A: Yes. EPA approves this alternative under NSPS subpart VV because prior monitoring results submitted by the facility show that the number of leaks identified using sensory methods for equipment in acetic acid service has been significantly higher than the number detected using solely EPA Method 21. Also, all of the previous leaks found using EPA Method 21 would have been detected if only sensory methods had been used.

Abstract for [0500114]

Q1: Does EPA approve a reduction in the duration of visible emission testing, under 40 CFR part 60, subpart Y, for conveyor belt transfer points at Eastman Chemical Company's (Eastman) plant in Kingsport, Tennessee?

A1: Yes. EPA approves the request under NSPS subpart Y to shorten the test duration from three hours to one hour if no individual readings exceed 20 percent and no more than three individual readings equal 20 percent during the first hour of observations.

Q2: Does EPA waive the requirement to enter a building and conduct separate visible emission tests, under 40 CFR part 60, subparts Y and OOO, on several conveyor belt transfer points if 75 minutes of EPA Method 22 observations indicate that there are no fugitive emissions from the building?

A2: Yes. EPA waives the requirement under NSPS subparts Y and OOO to conduct separate visible emission tests for the conveyor belt transfer points because the use of Method 22 to verify that there are no fugitive emissions from the building offers adequate assurance of compliance for the facilities inside.

Abstract for [0500115]

Q: Does EPA approve a proposed alternative surface methane concentration monitoring frequency, under 40 CFR part 60, subpart WWW, for a Class III area at the North County Resource Recovery Facility operated by the Solid Waste Authority of Palm Beach County, Florida?

A: Yes. EPA approves this alternative under NSPS subpart WWW because methane generation rates in the Class III area are expected to be low given the types of waste (construction demolition debris, trash, paper, and glass) placed there, and because no methane was detected during five successive quarterly monitoring periods. However, as this landfill is still active, the condition for this approval is that a methane concentration of 250 ppm, rather than 500 ppm, will be used as a trigger for reverting back to a quarterly methane surface monitoring frequency.

Abstract for [0500116]

Q1: Does EPA approve the option for landfill facilities to conduct additional Tier 2 testing, under 40 CFR part 60, subpart WWW, if an annual report indicates that the nonmethane organic compound (NMOC) emission rate calculated with previous Tier 2 results exceeds 50 megagrams/year?

A1: Yes. EPA approves this request because, as Tier 2 testing is conducted every five years and NSPS subpart WWW requires periodic retesting, it would be inconsistent and unreasonable to deny facilities the option of conducting additional testing that might improve the accuracy of test data. With additional testing, NMOC emission rates calculated with new Tier 2 data will be more representative of current conditions than results calculated using older data.

Q2: Does the presence of an existing gas collection and control system (GCCS) affect NMOC emission rate calculations under 40 CFR part 60, subpart WWW?

A2: No. The presence of an existing GCCS does not affect the NMOC emission rate calculations under NSPS subpart WWW. The variables specified in 40 CFR 60.754(a)(1) for calculating NMOC emission rates are not associated with GCCS operation. Depending on the calculated NMOC emissions rate, the facility may be required to submit a design plan for existing or planned control systems for gas emission within a specified timeframe.

Abstract for [0500117]

Q: Does EPA approve a proposal to conduct monthly oxygen concentration monitoring at the inlet to the flare, rather than at each individual well, under 40 CFR part 60, subpart CC, at Onyx Waste Services' Pecan Road Landfill in Valdosta, Georgia.

A: No. EPA does not approve the proposed alternative monitoring location under NSPS subpart CC because it is downstream of the point where the gas from all the wells in the collection system combines. No conclusions regarding the performance of individual wells can be drawn from the results at this monitoring location. In addition, maintaining an oxygen concentration of 5 percent or less at the flare inlet will not provide assurance that all wells comply with subpart CC.

Abstract for [0500118]

Q: Does EPA approve the alternative opacity monitoring proposed, under 40 CFR part 60, subpart CC, for two glass melting furnaces at the Anchor Glass Company plant in Warner Robbins, Georgia?

A: EPA may approve the proposal if remaining issues can be resolved. Although the proposal to monitor furnace bridgewall temperature as an alternative to installing a continuous opacity monitoring system (COMS) under NSPS subpart CC appears reasonable, there are several issues that need to be resolved before the proposal can be approved. These issues include: the appropriate margin of compliance with the applicable particulate emission standard if a COMS is not used; the possibility that natural gas usage rates will need to be monitored in addition to bridgewall temperatures, and what constitute excess emissions.

Abstract for [0500119]

Q: Could EPA clarify whether the addition of in-line blending equipment to a loading rack at the Magellan Midstream Partners (Magellan) bulk gasoline terminal in Greensboro, North Carolina, would trigger the requirement for a retest, under 40 CFR part 60, subpart XX, on the vapor recovery unit (VRU) that controls emissions during loading?

A: No. EPA has determined that adding the in-line blending equipment does not automatically trigger VRU retest. The initial VRU test that the company conducted in February 2000 is the only test specifically required for sources subject to NSPS subpart XX. Although the Administrator can ask for a retest at anytime, EPA does not find it necessary to require a new test following the installation of the in-line blending equipment at Magellan's Greensboro terminal. Adding the in-line blending equipment did not increase the number of trucks that can be loaded simultaneously at the terminal. Also, there was a significant margin of compliance during the initial test.

Abstract for [0500120]

Q: Does EPA approve EPA Method 25A as an alternative to EPA Method 25, under 40 CFR part 60, subpart TT, for carbon absorber efficiency testing on a metal coil coating line at the Thermalex plant in Montgomery, Alabama?

A: Yes. EPA approves EPA Method 25A as an acceptable alternative to EPA Method 25 for control device efficiency testing where VOC concentrations in the control system exhaust are expected to be 50 ppm or less. In this case, the VOC concentration is expected to be approximately 10 ppm at the carbon absorber outlet which is acceptable.

Abstract for [0500121]

Q: Does EPA approve as an alternative to EPA Method 21, under 40 CFR part 60, subpart VV, sensory means (i.e.>, sight, sound, smell) to identify leaks from equipment in acetic acid and/or acetic anhydride service at the Eastman Chemical Company facility in Kingsport, Tennessee?

A: Yes. EPA approves the proposed alternative monitoring under NSPS subpart VV because monitoring results provided indicate that leaks from equipment are more easily identified through sensory methods than through EPA Method 21. The physical properties (i.e., high boiling points, high corrosivity, and low odor threshold) of acetic acid and acetic anhydride and the process conditions at the facility in question make sensory means preferable.

Abstract for [0500122]

Q: Does EPA approve a boiler derate proposal, under 40 CFR part 60, subpart Db, based on changes made to the natural gas burner at North Carolina Baptist Hospital in Winston-Salem, North Carolina?

A: Yes. EPA approves this proposal under NSPS subpart Db because it has determined that the proposed derate method, which includes installing new boiler tips limiting the heat input capacity to 100 mmBtu/hr and eliminating the burning of fuel oil, will reduce the capacity of the boiler and will comply with EPA's policy on derates.

Abstract for [0500123]

Q1: Does EPA approve an alternative monitoring procedure, under 40 CFR part 60, subpart UUU, for a spray tower scrubber at the Short Mountain Silica Company in Mooresburg, Tennessee?

A1: Yes. EPA approves the proposed alternative under NSPS subpart UUU to monitor the scrubbing liquid supply pressure and scrubbing liquid flow rate rather than measuring the pressure loss of the gas stream through the scrubber and the scrubbing liquid flow rate. Because there is little pressure drop of the gas stream as it passes through the spray tower, pressure drop is not a good indicator of spray tower efficiency.

Q2: Does EPA waive the requirement, under 40 CFR part 60, subpart UUU, to conduct a performance test for a rotary dryer which serves as a backup for the fluidized bed dryer at the Short Mountain Silica Company in Mooresburg, Tennessee?

A2: Yes. EPA approves the performance test waiver under NSPS subpart UUU because demonstration of compliance for the fluidized bed dryer also shows an acceptable level of compliance assurance for the rotary dryer.

Abstract for [0500124]

Q: Does EPA approve the use of nitrogen oxides continuous emission monitors (NOX CEMs), under 40 CFR part 60, subpart GG, as an alternative to the four-point load test for gas turbines at Cinergy's South Houston Green Power Site facility in Houston, Texas?

A: Yes. EPA approves the alternative monitoring proposal under NSPS subpart GG, provided that the CEMs for NOX is capable of calculating a one-hour average NOX emissions concentrations corrected to 15 percent oxygen, and the facility submits reports of excess emissions and summary reports.

Abstract for [0500125]

Q: Does EPA approve a 90-day extension of the performance testing deadline, under 40 CFR part 60, subparts A and I, in light of weather conditions and material shortages that made it impossible for the Pavers Supply facility in Conroe, Texas, to run at full rates?

A: No. EPA denies the request for a 90-day extension under NSPS subpart I. Concurring with the Texas Commission on Environmental Quality (TCEQ), EPA grants a 60-day extension pursuant to 40 CFR 60.8(d).

Abstract for [0500126]

Q: Does EPA approve a span setting of 100 ppmv on an outlet continuous emission monitor (CEM), under 40 CFR part 60, subpart J, for the sulfur dioxide (SO2), CEMs for the fluid catalytic cracking unit wet gas scrubber (WGS) at the Shell Oil Products refining facility in Deer Park, Texas?

A: Yes. EPA approves under NSPS subpart JJ the span setting of 100 ppmv for the WGS outlet SO2 CEMs, as it will be acceptable with respect to the 50 ppmv rolling seven day average.

Abstract for [0500127]

Q: Does EPA waive continuous emission monitor for the hydrogen sulfide (CEM H2S) stream monitoring, under 40 CFR part 60, subpart J, for the steam methane reformer unit pressure swing adsorption (PSA) at Valero's Corpus Christi-West Plant, in Corpus Christi, Texas?

A: Yes. EPA grants this waiver request under NSPS subpart J because it has determined that no CEM HS needs to be installed for the purpose of monitoring the H2S in the off-gas vent streams in the PSA routed to the reformer heater. Instead, the alternative parameter will be the total sulfur content of the combined feed to the sulfur vapor recovery (SVR) unit.

Abstract for [0500128]

Q: Does EPA waive continuous emission monitor for the hydrogen sulfide (CEM H2S) stream monitoring, under 40 CFR part 60, subpart J, for the catalytic reformer unit heater fuel gas from fuel gas drums numbers 1 and 2 (which is a refinery and generates gas stream) at Valero's Corpus Christi-West Plant, in Corpus Christi, Texas?

A: Yes. EPA grants this waiver request under NSPS subpart J because it has determined that no CEM H2S needs to be installed for the purpose of monitoring the H2S in the off-gas vent streams from fuel gas mixing drum #1 or #2 routed to the reformer heater. Instead, the alternative parameter will be the total sulfur content of the combined feed to the CRU unit.

Abstract for [0500129]

Q: Does EPA approve the use of an alternative monitoring plan, under 40 CFR part 60, subpart J, for the soil vapor extraction system (SVE) at Western Refining's facility in El Paso, Texas?

A: Yes. EPA approves the alternative monitoring proposal under NSPS subpart J to measure H2S content directly at the inlet to the internal combustion engine (ICE), which are components of the SVE system.

Abstract for [0500130]

Q: Does EPA approve an alternative monitoring plan, under 40 CFR part 60, subpart J, for the catalytic reformer 1 unit (CR-1) at Motiva Enterprises' facility in Norco, Louisiana? The company proposes waiving the continuous monitoring system (CMS) requirement for hydrogen sulfide (H2S) steam monitoring and instead monitoring the gas stream using EPA guidance on alternative monitoring plans for low sulfur refinery fuel gas streams.

A: Yes. EPA approves this alternative monitoring under NSPS subpart J. No CMS needs to be installed for the purpose of monitoring the H2S in the make gas stream to the unit's heaters. Instead, H2S concentrations will be monitored using detection tubes. This determination is subject to the conditions set forth in the stipulated guidance in EPA's letters to Koch Fuels on December 2, 1999 and February 13, 2001 (see ADI Control Numbers 0500137 and 0100037).

Abstract for [0500131]

Q: Does EPA approve an alternative monitoring for the hydrogen generation unit (HGU) torvex catalytic converter, under 40 CFR part 60, subpart J, at Motiva Enterprises' facility in Convent, Louisiana?

A: Yes. EPA approves this alternative monitoring under NSPS subpart J. No CEM needs to be installed for the purpose of monitoring the H2S in the H2S Concentration Column overhead vent stream. Instead, the H2S concentration will be measured daily using detection tubes, with ranges and frequency as set forth in the stipulated guidance in EPA's letters to Koch Fuels on December 2, 1999 and February 13, 2001 (see ADI Control Numbers 0500137 and 0100037).

Abstract for [0500132]

Q: Does EPA approve certain monitoring, recordkeeping, and reporting provisions of 40 CFR part 60, subpart RRR, as alternative monitoring requirements, under 40 CFR part 60, subpart NNN, for DuPont's Sabine River Works facility in Orange County, Texas?

A: Yes. EPA conditionally approves use of the proposed provisions in NSPS subpart RRR as an alternative means of demonstrating compliance under NSPS subpart NNN for the specified distillation unit. As conditions of approval, the facility must comply with the recordkeeping and reporting requirements for flow indicators in NSPS subpart RRR, and must maintain a schematic diagram for all related affected vent streams, collection system(s), fuel systems, control devices, and bypass systems as stated in 60.705(s).

Abstract for [0500133]

Q: Does EPA approve certain monitoring, recordkeeping, and reporting provisions of 40 CFR part 60, subpart RRR, as alternative monitoring requirements, under 40 CFR part 60, subpart NNN, for DuPont's facility in La Porta, Texas?

A: Yes. EPA conditionally approves use of the proposed provisions in NSPS subpart RRR as an alternative means of demonstrating compliance under NSPS subpart NNN. As conditions of approval, the facility must comply with the recordkeeping and reporting requirements for flow indicators in NSPS subpart RRR, and must maintain a schematic diagram for all related affected vent streams, collection systems, fuel systems, control devices, and bypass systems as stated in 40 CFR 60.705(s).

Abstract for [0500134]

Q: Does EPA approve an alternative performance specification procedure, under 40 CFR part 60, subpart B, allowing the use of seven consecutive unit operating days instead of seven consecutive calendar days for the calibration drift test period at Cottonwood Energy's facility in Deweyville, Texas?

A: Yes. EPA conditionally approves the use under NSPS subpart B of seven consecutive operating days for the calibration drift test period, based on previous EPA determinations and guidance that a seven consecutive operating day test is more stringent than a seven consecutive calendar day test. As a condition of this approval, if the continuous monitoring system CMS fails the seventh day test, the facility will repeat the entire test.

Abstract for [0500135]

Q1: Does EPA approve alternative monitoring, recordkeeping, and reporting requirements, under 40 CFR part 60, subpart Db, for a cogeneration unit at Shell Chemical Company's facility in Geismar, Louisiana commensurate with past determinations?

A1: No. EPA does not approve the alternative monitoring plan under NSPS subpart Db because the determination letter (ADI Control Number PS15), referenced in Shell's proposal, does not apply to the fuel records required by 40 CFR 60.49b.

Q2: Does EPA approve an alternative reporting of nitrogen oxides (NOX) emissions requirements, under 40 CFR part 60, subpart Db, where the NOX emission limit and excess emissions are reported on an average “steam generating unit operating day” basis, instead of a 30-day average for Shell Chemical Company's facility in Geismar, Louisiana?

A2: Yes. EPA approves the alternative reporting plan under NSPS subpart Db, provided that the records for the units specified in 40 CFR 60.49(b) are maintained on-site and are available at the request of any state or Federal agency inspector.

Abstract for [M050047]

Q: Does EPA consider the C-12 process area of INVISTA's Victoria Plant and its component chemical manufacturing process units (CMPUs) subject to 40 CFR part 63, subpart H, the HON rule?

A: No. As none of these units qualify for regulation under both 40 CFR 63.100(b) and 40 CFR 63.100(b)(1)-(2), the only way likely for the C-12 process area to qualify for regulation under 40 CFR 63.100 would be to conflate all CMPUs into a single CMPD. Since these units are not conflated into a single CMPD unit, these units are not subject to the HON Rule. This finding is consistent with a previous determination, ADI Control Number M960028.

Abstract for [0500136]

Q1: Does 40 CFR part 60, subpart NNN, apply to the SP-1 and SP-2 distillation units at INVISTA's Victoria Plant?

A1: No. Since the SP-1 and SP-2 units produce no products, by-products, or co-products, or intermediates listed in 40 CFR 60.667, NSPS subpart NNN does not apply to these two units.

Q2: Does 40 CFR part 60, subpart NNN, apply to a concentrated water wash (CWW) system at INVISTA's Victoria Plant?

A2: Yes. Since the CWW vents into the atmosphere, it is subject to NSPS subpart NNN.

Abstract for [0500137]

Q1: How does 40 CFR part 60, subpart J, apply to the fuel gas combustion devices (FGCDs) and fuel gases involved with operations at Koch Refining's Rosemount, Minnesota, refinery?

A1: NSPS subpart J apply to an affected FGCD if the device combusts a “fuel gas,” that is, any gas that is generated at a petroleum refinery. To control sulfur oxide (SOX) emissions into the atmosphere from affected FGCDs, NSPS subpart J limits the amount of hydrogen sulfide (H2S) allowed in the fuel gas burned in these devices. Except for fuel gas released to a flare as a result of relief valve leakage or other emergency malfunctions, a facility may not burn fuel gas containing greater than 230 mg/dscm of H2S in any affected FGCD.

Q2: How does the process upset gas exemption of 40 CFR part 60, subpart J, apply to the flare gas recovery system in operation at Koch Refining's Rosemount, Minnesota, refinery?

A2: The process upset gas exemption under NSPS subpart J applies only to extraordinary, infrequent, and not reasonably preventable upsets. Any gases released as a result of normal operations are not considered upset gases. The routine combustion of refinery gases in a FGCD, including flares and other waste gas disposal devices, do not qualify for the process upset gas exemption of the rule. Based on the background information of the rule, the term upset does not apply to normal operations. Therefore, the rule exempts the combustion of process upset gases in a FGCD, including the combustion in a flare of fuel gas that is released to the flare as a result of relief valve leakage or other emergency malfunction. However, the combustion/flaring of those exempted gases in an NSPS affected FGCD is still required to comply with the good air pollution control practices of 40 CFR 60.11(d), even when such FGCDs are exempt from the sulfur dioxide limit.

Q3: How does NSPS subpart J apply to the various gas streams Koch Refining's Rosemount, Minnesota, refinery?

A3: EPA has analyzed the 26 gas streams identified at the Koch Refining facility and has provided a finding for each of these streams based on the Agency's responses in A1 and A2, above.

Abstract for [0500138]

Q: Does EPA approve an alternative monitoring plan, under 40 CFR, part 60, subpart J, for fuel gases and fuel gas combustion devices (FGCDs) at Koch Refining's Rosemount, Minnesota, refinery?

A: No. Based on the information submitted, EPA does not approve the proposed alternative monitoring plan for fuel gases and FGCDs since it needs to provide for good air pollution control practices to minimize flaring events.

Dated: April 10, 2006.
Michael M. Stahl,
Director, Office of Compliance.

[FR Doc. 06-3808 Filed 4-21-06; 8:45 am]

BILLING CODE 6560-50-P